ENVIRONMENTAL PROTECTION AGENCY

[ER-FRL-6642-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-AFS-E65061-SC Rating EC2, Sumter National Forest Revised Land and Resource Management Plan, Implementation, Oconee, Chester, Fairfield, Laurens, Newberry, Union-Abbeville, Edgefield, Greenwood, McCormick and Saluda Counties, SC.

Summary: EPA has environmental concerns related primarily to water quality improvement goals and objectives for the National Forest. EPA recommends inclusion of several forest-wide goals, objectives and standards to improve water quality and identified several individual, watershed-specific, management prescriptions for implementation.

ERP No. D-AFS-E65062-TN Rating EC2, Cherokee National Forest Revised Land and Resource Management Plan, Implementation, Carter, Cocke, Greene, Johnson, McMinn, Monroe, Polk, Sullivan and Unicoil, TN.

Summary: EPA has environmental concerns related primarily to water quality improvement goals and objectives for the National Forest. EPA recommends inclusion of several forest-wide goals, objectives and standards to improve water quality and identified several individual, watershed-specific, management prescriptions for implementation.

ERP No. D-AFS-E65063-GA Rating EC2, Chattahoochee-Oconee National Forests Revised Land and Resource Management Plan, Implementation, several Counties, GA.

Summary: EPA has environmental concerns related primarily to water quality improvement goals and objectives for the National Forest. EPA recommends inclusion of several forest-wide goals, objectives and standards to improve water quality and identified several individual, watershed-specific, management prescriptions for implementation.

ERP No. D-AFS-E65064-AL Rating EC2, Alabama National Forests Revised Land and Resource Management Plan, Implementation, Bankhead National Forest, Lawrence, Winston and Franklin Counties, AL.

Summary: EPA has environmental concerns related primarily to water quality improvement goals and objectives for the National Forest. EPA recommends inclusion of several forest-wide goals, objectives and standards to improve water quality and identified several, watershed-specific, management prescriptions for implementation.

ERP No. D-AFS-J65382-SD Rating EC2, Elk Bugs and Fuels Project, Vegetation Management to Reduce the Spread of Mountain Pine Beetles and the Threat and Severity of Potential Wildfires, Black Hills National Forest Land and Resource Management Plan, Implementation, Northern Hills Ranger District, Black Hills National Forest, Lawrence and Meade Counties, SD.

Summary: EPA expressed environmental concerns about adverse impacts of erosion on water quality and riparian habitat, sedimentation of streams and water-storage reservoirs, fish and wildlife impacts to sensitive species; and noxious weeds. EPA recommended focusing fire reducing treatments to wildland-private land interface, allowing large, fire-resistant trees to remain for wildlife habitat in the back country, and maximizing use of existing roads and reducing new roads near private lands.

ERP No. D-BLM-J01080-WY Rating EC2, West Hay Creek Coal Lease Application, Federal Coal Leasing, Buckskin Mine, Powder River Basin, Campbell County, WY.

Summary: EPA expressed environmental concerns with potential impacts to air quality in the Powder River Basin, nitrogen oxides from blasting and wetlands loss.

ERP No. D-DOD-A09832-00 Rating LO, Mercury Management Project, Site Selection and Implementation of a Long-Term (i.e., 40 Years) Management Plan for the Defense Stockpile of Elemental Mercury, Hawthore, NV; New Haven, IN; Oak Ridge, TN; Romulus, NY; Somerville, NJ; Tooele, UT and Warren, OH.

Summary: EPA had no objection to the proposed action.

ERP No. D-DOD-A10075-00 Rating LO, Programmatic EIS—Chemical and Biological Defense Program, Protection of our Soldiers, Sailors, Marines and Airmen on the Battlefield, United States and other Countries.

Summary: EPA had no objection to the proposed action.

ERP No. D-DOE-C22003-NY Rating LO, West Valley Demonstration Project, Waste Management, Onsite Management and Offsite Transportation of Radioactive Waste, West Valley, Cattaraugus County, NY.

Summary: EPA has no objections to the implementation of the proposed project.

ERP No. D-DOE-L91018-OR Rating LO, Northeast Oregon Hatchery Program, Grande Ronde—Imnaha Spring Chinook Hatchery Modification and Modernization of Two Existing Hatchery Facilities and Construction of Three New Auxiliary Hatchery Facilities, Wallowa County, OR.

Summary: EPA requested additional information in the final EIS to support the need for the hatchery facilities. EPA also requested clarification on: cumulative impacts collection, maintenance and operation criteria; future facility plans and consultation with Native American Tribes.

ERP No. D-FHW-F40412-OH Rating EC1, OH-161/37 Improvement, from OH-161 (New Albany Bypass) to west of OH-161/37 Interchange with OH-16, Funding, Franklin and Licking Counties, OH.

Summary: EPA has environmental concerns with the preferred alternative, specifically with impacts to wetlands, floodplains/streams, and groundwater resources. EPA recommends that the FEIS include specific mitigation measures to minimize these impacts.

ERP No. D-FTA-E54012-FL Rating EC1, MIC/Earlington Heights Connector Study, Earlington Heights Metrorail Station to the Miami-Dade Intermodal Center (MIC) Transit Improvements, Funding and NPDES, U.S. Army COE Section 10 and U.S. Coast Guard Bridge Permits Issuance, Miami-Dade County, FL.

Summary: EPA has environmental concerns with the proposed project regarding potential impacts to floodplains, aquatic resources, and wildlife and aquatic habitat as well as concerns regarding visual and noise impacts.

ERP No. D-NRC-E05101-SC Rating EC1, H.B. Robinson Steam Electric Plant, Unit No. 2 (RNP), Application for Operating License Renewal of Nuclear Plants for 20-Years, Supplement 13, located on the Shore of Lake Robinson, Darlington and Chesterfield Counties, SC.

Summary: EPA notes that radiological monitoring of all plant effluents, and appropriate storage and disposition of radioactive waste, will be necessary during the license renewal period.

ERP No. D-USA-C11021-NY Rating LO, Thomas Jefferson Hall and Other Construction Activities in the Cadet Zone of the United States Military Academy, Implementation, West Point, Hudson River Valley, Orange and Putnam Counties, NY.

Summary: EPA has no objections to the implementation of the proposed project.

ERP No. DC-NOA-B91017-00 Rating LO, Atlantic Sea Scallop Fishery Management Plan (FMP), Amendment 10, Introduction of Spatial Management of Adult Scallops, Essential Fish Habitat (EFH), from the Gulf of Maine and Georges Banks to Cape Hatteras, NC.

Summary: While EPA has no objection to the proposed action, it was suggested that public comments and additional data on protected species be included in the final document.

ERP No. DS-DOE-A06178-00 Rating LO, Programmatic EIS—Stockpile and Management for a Modern Pit Facility (MPF) Construction and Operation, Site Location: Savannah River Site, SC; Los Alamos Site, NM; Nevada Test Site; Carlsbad Site, NM; and Pantex Site, TX, and Plutonium Pit Manufacturing Capabilities Upgrading at Los Alamos National Laboratory (LANL), NM.

Summary: EPA does not object to the proposed action, but requests that the final EIS address several technical comments.

Final EISs

ERP No. F-AFS-H65014-MO, Pineknot Woodland Restoration Project, Open Shortleaf Pine Woodland Restoration, Implementation, Doniphan/Eleven Point Ranger District, Mark Twain National Forest, Carter County, MO.

Summary: EPA's concerns regarding old growth designations, water quality and soil protection, and a smoke/fire management plan have been adequately addressed.

ERP No. F-COE-G39034-TX, Bayport Channel Container/Cruise Terminal Project, Marine Terminal Complex Construction and Operation, Bayport Ship Channel, U.S. Army COE Section 10 and 404 Permits Issuance, Harris County, TX.

Summary: EPA expressed environmental concern that impacts to wetlands should be fully mitigated and that a mitigation plan be incorporated in the Record of Decision and be made a condition to the Section 10/404 Corps of Engineers permit.

ERP No. F-FHW-E50293-00, Louisville-Southern Indiana Ohio River Bridges Project, Cross-River Mobility Improvement between Jefferson County, KY and Clark County, ID, Coast Guard Bridge and U.S. Army COE Section 10 and 404 Permits Issuance, Jefferson County, KY and Clark County, IN.

Summary: EPA has environmental concerns with the proposed project regarding traffic noise, environmental justice issues, surface water quality, upland forest losses, and loss of agricultural lands. Air quality conformity is a particular area of concern. EPA recommends that all reasonable and feasible mitigation measures be identified in the Record of Decision.

ERP No. F-FRC-J03015-00, Grasslands Pipeline Project, Interstate Natural Gas Pipeline System Construction and Operation, Docket No. CP02-037-000, WY, ND and MT.

Summary: FERC and the project proponent made some revisions in response to EPA's comments, to reduce wetland and aquatic impacts. The project proponent agreed to directionally drill its Sandstone Creek crossing, to eliminate water quality impacts to that sensitive, perennial stream. EPA requested that a plan be developed to prevent and monitor noxious weed introduction and spread before project construction begins. EPA expressed concerns that cumulative environmental impacts from related gas production projects were not addressed in the EIS.

ERP No. F-NOA-E91010-00, Amendment 13 to the Fishery Management Plan for Summer Flounder, Scup, and Black Sea Bass, Implementation, in the Western Atlantic Ocean, from Cape Harteras, NC, northward to the US-Canadian Border.

Summary: While EPA has no objection to the proposed action, EPA did request some clarification information regarding wet storage of fishing pots/traps and the tag program.

ERP No. FS-COE-E67003-FL, PCS Phosphate—White Springs Mine Continuation Mining Operations, Proposal to Discharge Dredged/ Fill Material into 1,858 Acres of Jurisdictional Wetlands, Applications of “Life of Mine” Permits, Hamilton County, FL.

Summary: EPA noted that although most of its requests for technical data were provided, there were some environmental concerns that some data was not readily available in the Final EIS and had to be obtained from a project Web site.

Dated: August 12, 2003.
Joseph C. Montgomery,
Director, NEPA Compliance Division, Office of Federal Activities.

[FR Doc. 03-20901 Filed 8-14-03; 8:45 am]

BILLING CODE 6560-50-P